DEPARTMENT OF AGRICULTURE

Animal and Plant Health Inspection Service

[Docket No. APHIS-2009-0070]

Agency Information Collection Activities; OMB Approval Received

AGENCY: Animal and Plant Health Inspection Service, USDA.

ACTION: Notice.

SUMMARY: In accordance with the Paperwork Reduction Act, this notice announces the Office of Management and Budget's approval of a collection of information contained in the Animal and Plant Health Inspection Service's final rule regarding the possession, use, and transfer of select agents and toxins.

FOR FURTHER INFORMATION CONTACT: For information on select agents and toxins, contact Mr. Charles L. Divan, Acting Director, APHIS Agriculture Select Agent Program, APHIS, 4700 River Road Unit 2, Riverdale, MD 20737-1231; (301) 851-3300, option 1. For copies of more detailed information on the information collection, contact Mrs. Celeste Sickles, APHIS' Information Collection Coordinator, at (301) 851-2908.

SUPPLEMENTARY INFORMATION: On October 5, 2012, we published in the Federal Register (77 FR 61056-61081, Docket No. APHIS-2009-0070) a final rule ¹ that amended and republished the list of select agents and toxins that have the potential to pose a severe threat to animal or plant health, or to animal or plant products; reorganized the list of select agents and toxins based on the relative potential of each select agent or toxin to be misused to adversely affect human, plant, or animal health; and amended the regulations in order to add definitions and clarify language concerning security, training, biosafety, biocontainment, and incident response.

¹ To view the final rule, its preceding proposed rule, and the comments we received, go to http://www.regulations.gov/#!docketDetail;D=APHIS-2009-0070.

Because of changes made in the final rule in response to comments or for other reasons, some of those provisions included information collection requirements that differed from those originally submitted for approval to the Office of Management and Budget (OMB) in conjunction with the proposed rule, which was published in the Federal Register on October 3, 2011 (76 FR 61228-61244, Docket No. APHIS-2009-0070). OMB requested that we combine those most recent information collection requirements with the existing information collection requirements associated with the existing select agent regulations at 7 CFR part 331 and 9 CFR part 121.

In accordance with section 3507(d) of the Paperwork Reduction Act of 1995 (44 U.S.C. 3501 et seq.), OMB has approved the information collection requirements associated with the select agent regulations as amended by our October 2012 final rule under OMB control number 0579-0213 (expires November 30, 2015).

Done in Washington, DC, this 11th day of February 2013.
Kevin Shea,
Acting Administrator, Animal and Plant Health Inspection Service.

[FR Doc. 2013-03584 Filed 2-14-13; 8:45 am]

BILLING CODE 3410-34-P